DEPARTMENT OF COMMERCE

National Oceanic and Atmospheric Administration

[RTID 0648-XB271]

Magnuson-Stevens Act Provisions; General Provisions for Domestic Fisheries; Application for Exempted Fishing Permits

AGENCY: National Marine Fisheries Service (NMFS), National Oceanic and Atmospheric Administration (NOAA), Commerce.

ACTION: Notice; request for comments.

SUMMARY: The Gulf of Maine Research Institute has requested a change to a previously issued exempted fishing permit which would result in new regulatory exemptions for participating vessels. The Assistant Regional Administrator for Sustainable Fisheries, Greater Atlantic Region, NMFS, has determined that this request is outside the scope of the initially approved exempted fishing permit. As a result, regulations under the Magnuson-Stevens Fishery Conservation and Management Act require publication of this notification to provide interested parties the opportunity to comment on the proposed changes to the exempted fishing permit previously issued to the Gulf of Maine Research Institute.

DATES: Comments must be received on or before August 18, 2021.

ADDRESSES: You may submit written comments by the following method:

• Email: nmfs.gar.efp@noaa.gov. Include in the subject line “Modification to GMRI MREM EFP.”

FOR FURTHER INFORMATION CONTACT: Spencer Talmage, Fishery Policy Analyst, 978-281-9232.

SUPPLEMENTARY INFORMATION: On July 31, 2020, NMFS issued an exempted fishing permit (EFP) to the Gulf of Maine Research Institute (GMRI) in support of the development of maximized retention electronic monitoring (MREM) for the Northeast multispecies fishery. The EFP requires six participating vessels to retain all catch of undersized, allocated groundfish, with electronic monitoring (EM) used to verify compliance. The EFP currently exempts vessels from the requirement to adhere to their sector's monitoring program at 50 CFR 648.87(b)(1)(v)(B)); minimum fish size requirements at § 648.83(a) and § 648.14(a)(7); minimum mesh size requirements at § 648.80; and Closed Area II Closure Area at § 648.81(a)(5) from April 16 through January 31.

Additionally, the EFP as originally issued allowed vessels to use a 4.5-inch (11.43 cm) mesh codend rather than a 5.5-inch (13.97 cm) mesh codend normally required while participating in the redfish sector exemption, provided that all other exemption area requirements were complied with. This provision was written into the terms and conditions of the EFP, and was not implemented through a regulatory exemption. Prior to the publication of Framework Adjustment 61 to the Northeast Multispecies Fishery Management Plan (86 FR 40353, July 28, 2021), the redfish sector exemption was administered through sector operations plans which are approved each year, and was not defined in the regulations.

When Framework 61 was approved and implemented, the redfish exemption was added to the list of universal sector exemptions, and a sector redfish exemption program, corresponding to the universal exemption, was described in the regulations. These new regulations define terms of the program, including vessel eligibility, area, gear, monitoring thresholds, and other administrative elements of the exemption program.

Because the new regulations defining the sector redfish exemption program did not exist when the EFP was issued to GMRI, the EFP does not currently exempt participating vessels from any of them. Because Framework 61 is now effective, vessels participating in this EFP are no longer be able to participate in the sector redfish exemption program using 4.5-inch (11.43 cm) mesh as was intended.

On June 25, 2021, GMRI requested a modification to the EFP which would add an exemption to the minimum codend mesh size requirement for vessels fishing in the sector redfish exemption program, at § 648.85(e)(1)(vii)(A). Additionally, the modification would revise the conditions and requirements of the EFP that address the sector redfish exemption program to account for the additional exemption issued to vessels participating in the EFP. These modifications allow the participating vessels to continue fishing under the provisions of the sector redfish exemption program with 4.5-inch (11.43 cm) codend mesh, as they have since the original issuance of the EFP.

These modifications would not alter any other aspect of the EFP, including the remaining exemptions, remaining conditions and requirements, and study period. They do not change the impact of the EFP from what was previously issued.

The applicant may request further minor modifications and extensions to the EFP throughout the year. EFP modifications and extensions may be granted without further notice if they are deemed essential to facilitate completion of the proposed research and have minimal impacts that do not change the scope or impact of the initially approved EFP request. Any fishing activity conducted outside the scope of the exempted fishing activity would be prohibited.

Authority: 16 U.S.C. 1801 et seq.

Dated: July 28, 2021.
Jennifer M. Wallace,
Acting Director, Office of Sustainable Fisheries, National Marine Fisheries Service.

[FR Doc. 2021-16469 Filed 8-2-21; 8:45 am]

BILLING CODE 3510-22-P